DEPARTMENT OF ENERGY

Federal Energy Regulatory Commission

Combined Notice of Filings

Take notice that the Commission has received the following Natural Gas Pipeline Rate and Refund Report filings:

Filings Instituting Proceedings

Docket Numbers: RP13-371-000.

Applicants: Gulf Crossing Pipeline Company LLC.

Description: Amendment to Neg Rate Agmt (Enterprise 12-10) filing to be effective 12/6/2012.

Filed Date: 12/5/12.

Accession Number: 20121205-5111.

Comments Due: 5 p.m. ET 12/17/12.

Docket Numbers: RP13-372-000.

Applicants: Gulf Crossing Pipeline Company LLC.

Description: Amendment to Neg Rate Agmt (JP Morgan 156-4) filing to be effective 12/5/2012.

Filed Date: 12/5/12.

Accession Number: 20121205-5112.

Comments Due: 5 p.m. ET 12/17/12.

Docket Numbers: RP13-373-000.

Applicants: Cimarron River Pipeline, LLC.

Description: NAESB Version 2.0 Extension of Time filing to be effective 12/1/2012.

Filed Date: 12/6/12.

Accession Number: 20121206-5000.

Comments Due: 5 p.m. ET 12/18/12.

Docket Numbers: RP13-374-000.

Applicants: Dauphin Island Gathering Partners.

Description: NAESB Version 2.0 Extension of Time to be effective 12/1/2012.

Filed Date: 12/6/12.

Accession Number: 20121206-5001.

Comments Due: 5 p.m. ET 12/18/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-1631-001.

Applicants: Energy West Development, Inc.

Description: 12052012 Compliance Filing to be effective 12/1/2012.

Filed Date: 12/5/12.

Accession Number: 20121205-5141.

Comments Due: 5 p.m. ET 12/17/12.

Docket Numbers: RP13-86-001.

Applicants: Southern Star Central Gas Pipeline, Inc.

Description: NAESB 2.0 Compliance Filing to be effective 12/1/2012.

Filed Date: 12/5/12.

Accession Number: 20121205-5063.

Comments Due: 5 p.m. ET 12/17/12.

Docket Numbers: RP13-93-001.

Applicants: Freebird Gas Storage, L.L.C.

Description: Freebird Compliance Re-Filing, Docket No. RP13-93-000 to be effective 12/1/2012.

Filed Date: 12/5/12.

Accession Number: 20121205-5168.

Comments Due: 5 p.m. ET 12/17/12.

Docket Numbers: RP13-99-002.

Applicants: Empire Pipeline, Inc.

Description: Empire NAESB v2 CF 2 to be effective 12/1/2012.

Filed Date: 12/5/12.

Accession Number: 20121205-5156.

Comments Due: 5 p.m. ET 12/17/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 6, 2012.
Nathaniel J. Davis, Sr.
Deputy Secretary.

[FR Doc. 2012-29945 Filed 12-11-12; 8:45 am]

BILLING CODE 6717-01-P